SECURITIES AND EXCHANGE COMMISSION

[File No. 500-1]

In the Matter of Asia4Sale.com, Inc., Pacific Vision Group, Inc., and Idoleyez Corporation; Order of Suspension of Trading

July 7, 2005.

It appears to the Securities and Exchange Commission that there is a lack of current and accurate information concerning the securities of Asia4Sale.com, Inc., because it is delinquent in its filing obligations under Section 13(a) of the Securities Exchange Act of 1934, having not filed its annual and quarterly reports for its fiscal years 2000, 2001, 2002, 2003 and 2004.

It appears to the Securities and Exchange Commission that there is a lack of current and accurate information concerning the securities of Pacific Vision Group, Inc., because it is delinquent in its filing obligations under Section 13(a) of the Securities Exchange Act of 1934, having not filed its annual and quarterly reports for its fiscal years 2001, 2002, 2003 and 2004.

It appears to the Securities and Exchange Commission that there is a lack of current and accurate information concerning the securities of Idoleyez Corporation because it is delinquent in its filing obligations under Section 13(a) of the Securities Exchange Act of 1934, having not filed any periodic reports since it filed on August 21, 2003 a Form 10-QSB for the period ended June 20, 2003.

The Commission is of the opinion that the public interest and the protection of investors require a suspension in the trading in the securities of the above-listed companies.

Therefore, it is ordered, pursuant to Section 12(k) of the Securities Exchange Act of 1934, that trading in the securities of the above-listed companies is suspended for the period from 9:30 a.m. EDT on July 7, 2005, through 11:59 p.m. EDT on July 20, 2005.

By the Commission.
Jill M. Peterson,
Assistant Secretary.

[FR Doc. 05-13631 Filed 7-7-05; 12:02 pm]

BILLING CODE 8010-01-P